DEPARTMENT OF HOUSING AND URBAN DEVELOPMENT

[Docket No. FR-4849-N-05]

Notice of Proposed Information Collection: Comment Requested; Record of Employee Interview

AGENCY: Office of Departmental Operations and Coordination, Office of Labor Relations, HUD.

ACTION: Notice.

SUMMARY: The proposed information collection requirement described below will be submitted to the Office of Management and Budget (OMB) for review, as required by the Paperwork Reduction Act. The Department is soliciting public comments on the subject proposal.

DATES: Comments Due Dates: June 30, 2003.

ADDRESSES: Interested persons are invited to submit comments regarding this proposal. Comments should refer to the proposal by name and/or OMB Control Number and should be sent to: Wayne Eddins, Reports Management Officer, Department of Housing and Urban Development, 451 7th Street, SW, L'Enfant Plaza Building, Room 800a, Washington, DC 20410 or Wayne_Eddins@HUD.gov.

FOR FURTHER INFORMATION CONTACT: Jade Banks, Senior Policy Advisor, Office of Labor Relations, Department of Housing and Urban Development, 451 Seventh Street, Southwest, Washington, DC 20410 or Jade-M.-Banks@hud.gov; telephone (202) 708-0370 (this is not a toll-free number) for copies of the proposed forms and other available information.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Record of Employee Interview.

OMB Control Number, if applicable: 2501-0009.

Description of the need for the information and proposed use:HUD and local agencies administering HUD-assisted programs collect information from laborers and mechanics employed on HUD projects to ensure that wages paid to these workers meets Federal labor standards requirements applicable to their work. HUD and local agencies must retain this information to document the compliance of employers and the sufficiency of local agency enforcement efforts. HUD proposes to modify this form in order to clarify certain 2 information and to collect more specific information from the employees. The additional information will better enable contract monitors ensure that the laborers and mechanics receive the wages to which they are entitled and will assist in enforcement actions, if necessary. The collection of the additional information will not significantly increase the burden on, and will serve to better protect respondents.

Agency form numbers, if applicable: HUD-11.

Estimation of the total number of hours needed to prepare the information collection including number of respondents, frequency of response, and hours of response:

Item | Number of respondents | Amount of time required | Total time required/annum
Interviews | 20,000 | .25 hours | 5,000 hours.
Record Keeping | 20,000 | .16 hours | 3,200 hours.
Total Annual Burden |  |  | 8,200 hours

Status of the proposed information collection: Revision of a currently approved collection.

Authority: Section 3506 of the Paperwork Reduction Act of 1995, 44 U.S.C. Chapter 35, as amended.

Dated: April 9, 2003.
Frank L. Davis,
Director, Departmental Operations and Coordination.

[FR Doc. 03-10560 Filed 4-28-03; 8:45 am]

BILLING CODE 4210-18-P